DEPARTMENT OF COMMERCE

International Trade Administration

[C-570-169]

Certain Alkyl Phosphate Esters From the People's Republic of China: Final Affirmative Countervailing Duty Determination

AGENCY: Enforcement and Compliance, International Trade Administration, Department of Commerce.

SUMMARY: The U.S. Department of Commerce (Commerce) determines that countervailable subsidies are being provided to producers and exporters of certain alkyl phosphate esters (alkyl phosphate esters) from the People's Republic of China (China). The period of investigation (POI) is January 1, 2023, through December 31, 2023.

DATES: Applicable April 25, 2025.

FOR FURTHER INFORMATION CONTACT: Benjamin Nathan or Gregory Taushani, AD/CVD Operations, Office II, Enforcement and Compliance, International Trade Administration, U.S. Department of Commerce, 1401 Constitution Avenue NW, Washington, DC 20230; telephone: (202) 482-3834 or (202) 482-1012, respectively.

SUPPLEMENTARY INFORMATION:

Background

On October 4, 2024, Commerce published in the Federal Register its preliminary determination in the countervailing duty (CVD) investigation of alkyl phosphate esters from China and invited interested parties to comment.¹ In the Preliminary Determination, and in accordance with section 705(a)(1) of the Tariff Act of 1930, as amended (the Act), and 19 CFR 351.210(b)(4), Commerce aligned the final CVD determination with the final determination in the less-than-fair-value investigation of alkyl phosphate esters.² On January 3, 2025, Commerce released its Post-Preliminary Analysis.³

¹ See Certain Alkyl Phosphate Esters from the People's Republic of China: Preliminary Affirmative Countervailing Duty Determination and Alignment of Final Determination with Final Antidumping Duty Determination, 89 FR 80870 (October 1, 2024) (Preliminary Determination), and accompanying Preliminary Decision Memorandum (PDM).

² See Preliminary Determination, 89 FR at 80871.

³ See Memorandum, “Post Preliminary Analysis,” dated January 3, 2025 (Post-Preliminary Analysis Memorandum).

For a complete description of the events that followed the Preliminary Determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Determination of the Countervailing Duty Investigation of Alkyl Phosphate Esters from the People's Republic of China,” dated concurrently with, and hereby adopted by, this notice (Issues and Decision Memorandum).

Scope of the Investigation

The products covered by this investigation are alkyl phosphate esters from China. For a complete description of the scope of the investigation, see Appendix I.

Scope Comments

We received no comments from interested parties on the scope of the investigation as it appeared in the Preliminary Determination. Therefore, we made no changes to the scope of the investigation.

Verification

As provided in section 782(i) of the Act, Commerce conducted verification of the subsidy information reported by company respondents Anhui RunYue Technology Co., Ltd. (Anhui RunYue) and Zhejiang Wansheng Technology Co., Ltd. (Zhejiang Wansheng), and the Government of China's questionnaire responses pertaining to the Export Buyer's Credit Program.⁵

⁵ See Memoranda, “Verification of the Questionnaire Responses of the Government of China,” dated November 22, 2024; see also “Verification of the Questionnaire Responses of Anhui RunYue Technology Co., Ltd.,” dated February 26, 2025; and “Verification of the Questionnaire Responses of Zhejiang Wansheng Co., Ltd.,” dated February 26, 2025.

Analysis of Subsidy Programs and Comments Received

The subsidy programs under investigation, and the issues raised in the case and rebuttal briefs by parties in this investigation, are discussed in the Issues and Decision Memorandum. For a list of the issues raised by parties, and to which we responded in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.⁶ For a full description of the methodology underlying our final determination, see the Issues and Decision Memorandum. In making this final determination, Commerce relied, in part, on facts otherwise available, including with an adverse inference, pursuant to sections 776(a) and (b) of the Act. For a full discussion of our application of adverse facts available (AFA), see the Preliminary Determination ⁷ and the Issues and Decision Memorandum at Comments 2, 6, and 8.

⁶ See sections 771(5)(B) and (D) of the Act regarding financial contribution; section 771(5)(E) of the Act regarding benefit; and section 771(5A) of the Act regarding specificity.

⁷ See Preliminary Determination PDM at 11-29.

Changes Since the Preliminary Determination and Post-Preliminary Analysis

Based on our review and analysis of the information received during verification and comments received from parties, for this final determination, we made certain changes to the countervailable subsidy rate calculations for Anhui RunYue, Zhejiang Wansheng, and all other producers/exporters. For a discussion of these changes, see the Issues and Decision Memorandum.

All-Others Rate

In accordance with section 705(c)(1)(B)(i) of the Act, we calculated an individual estimated countervailable subsidy rate for the two mandatory respondents, Anhui RunYue and Zhejiang Wansheng. Section 705(c)(5)(A)(i) of the Act states that, for companies not individually investigated, Commerce will determine an all-others rate equal to the weighted-average countervailable subsidy rates established for exporters and/or producers individually investigated, excluding any zero and de minimis countervailable subsidy rates, and any rates determined entirely under section 776 of the Act.

In this investigation, we continue to calculate individual total net countervailable subsidy rates for Anhui RunYue and Zhejiang Wansheng that are not zero, de minimis, or based entirely on facts otherwise available. We, therefore, continue to calculate the all-others rate using a weighted average of the individual estimated subsidy rates calculated for the examined respondents using each company's publicly-ranged sales value for their exports to the United States of subject merchandise,⁸ in accordance with section 705(c)(5)(A)(i) of the Act.

⁸ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Administrative Reviews, Final Results of Changed-Circumstances Review, and Revocation of an Order in Part, 75 FR 53661, 53663 (September 1, 2010); see also Forged Steel Fluid End Blocks from Italy: Preliminary Affirmative Countervailing Duty Determination, and Alignment of Final Determination with Final Antidumping Duty Determination, 85 FR 31460, 31461 (May 26, 2020), unchanged in Forged Steel Fluid End Blocks from Italy: Final Affirmative Countervailing Duty Determination, 85 80022, 80023 (December 11, 2020).

Final Determination

Commerce determines that the following estimated net countervailable subsidy rates exist for the period January 1, 2023, through December 31, 2023:

Company | Subsidy rate (percent ad valorem)
Anhui RunYue Technology Co., Ltd.; Yixing RunYue Enterprise Management Co., Ltd.⁹ | 117.51
Zhejiang Wansheng Co., Ltd.¹⁰ | 81.82
Zhejiang Wanda Tools Group Corp | * 491.21
All Others | 91.07
*Rate is based on facts available with adverse inferences.

Disclosure

⁹ As discussed in the Preliminary Determination, we found that Anhui RunYue is cross-owned with Yixing RunYue Enterprise Management Co., Ltd. For this final determination, Commerce continues to find that these companies are cross owned.

¹⁰ As discussed in the Preliminary Determination, we found that Zhejiang Wansheng is cross-owned with certain companies; because the identity of these two companies is business proprietary, the calculated subsidy rate applies only to Zhejiang Wansheng.

Commerce intends to disclose its calculations performed to interested parties in this final determination within five days of its public announcement or, if there is no public announcement, within five days of the date of the publication of this notice in the Federal Register, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after October 4, 2024, the date of publication of the Preliminary Determination in the Federal Register.¹¹ In accordance with section 703(d) of the Act, we instructed CBP to discontinue the suspension of liquidation of all entries of subject merchandise entered or withdrawn from warehouse, on or after February 1, 2025, the final day of provisional measures, but to continue the suspension of liquidation of all entries of subject merchandise on or before January 31, 2025.

¹¹ See Preliminary Determination, 89 FR at 80871.

If the U.S. International Trade Commission (ITC) issues a final affirmative injury determination, we will issue a countervailing duty order, reinstate the suspension of liquidation under section 706(a) of the Act, and require a cash deposit of estimated countervailing duties for such entries of subject merchandise in the amounts indicated above. Pursuant to section 705(c)(2) of the Act, if the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of alkyl phosphate esters from China. As Commerce's final determination is affirmative, in accordance with section 705(b) of the Act, the ITC will determine, within 45 days, whether the domestic industry in the United States is materially injured, or threated with material injury, by reason of import of alkyl phosphate esters from China. In addition, we are making available to the ITC all non-privileged and non-proprietary information in our files, provided the ITC confirms that it will not disclose such information, either publicly or under administrative protective order (APO), without the written consent of the Assistant Secretary for Enforcement and Compliance.

If the ITC determines that material injury or threat of material injury does not exist, this proceeding will be terminated and all cash deposits will be refunded. If the ITC determines that such injury does exist, Commerce will issue a countervailing duty order directing CBP to assess, upon further instruction by Commerce, countervailing duties on all imports of the subject merchandise that are entered, or withdrawn, for consumption on or after the effective date of the suspension of liquidation, as discussed above in the “Continuation of Suspension of Liquidation” section.

Administrative Protective Order

This notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: April 18, 2025.
Christopher Abbott,
Deputy Assistant Secretary for Policy and Negotiations, performing the non-exclusive functions and duties of the Assistant Secretary for Enforcement and Compliance.

Appendix I

Scope of the Investigation

The products covered by this investigation are alkyl phosphate esters, which are halogenated and non-halogenated phosphorus-based esters with a phosphorus content of at least 6.5 percent (per weight) and a viscosity between 1 and 2000 mPa.s (at 20-25 °C).

Merchandise subject to this investigation primarily includes Tris (2-chloroisopropyl) phosphate (TCPP), Tris (1,3-dichloroisopropyl) phosphate (TDCP), and Triethyl Phosphate (TEP)).

TCPP is also known as Tris (1-chloro-2- propyl) phosphate, Tris (1-chloropropan-2-yl) phosphate, Tris (monochloroisopropyl) phosphate (TMCP), and Tris (2-chloroisopropyl) phosphate (TCIP). TCPP has the chemical formula C9H18Cl3O4P and the Chemical Abstracts Service (CAS) Nos. 1244733-77-4 and 13674-84-5. It may also be identified as CAS No. 6145-73-9.

TDCP is also known as Tris (1,3-dichloroisopropyl) phosphate, Tris (1,3-dichloro-2-propyl) phosphate, Chlorinated tris, tris {2- chloro-1-(chloromethyl ethyl)} phosphate, TDCPP, and TDCIPP. TDCP has the chemical formula C9H15Cl6O4P and the CAS No. 13674-87-8.

TEP is also known as Phosphoric acid triethyl ester, phosphoric ester, flame retardant TEP, Tris(ethyl) phosphate, Triethoxyphosphine oxide, and Ethyl phosphate (neutral). TEP has the chemical formula (C2H5O)3PO and the CAS No. 78-40-0.

Imported alkyl phosphate esters are not excluded from the scope of this investigation even if the imported alkyl phosphate ester consists of a single isomer or combination of isomers in proportions different from the isomers ordinarily provided in the market.

Also included in this investigation are blends including one or more alkyl phosphate esters, with or without other substances, where the alkyl phosphate esters account for 20 percent or more of the blend by weight.

Alkyl phosphate esters are classified under subheading 2919.90.5050, Harmonized Tariff Schedule of the United States (HTSUS). Imports may also be classified under subheadings 2919.90.5010 and 3824.99.5000, HTSUS. The HTSUS subheadings and CAS registry numbers are provided for convenience and customs purposes. The written description of the scope is dispositive.

Appendix II

List of Topics Discussed in the Issues and Decision Memorandum

I. Summary

II. Background

III. Use of Facts Otherwise Available and Application of Adverse Inferences

IV. Subsidies Valuation

V. Changes Since the Preliminary Determination and Post Preliminary Analysis

VI. Analysis of Programs

VII. Discussion of the Issues

Comment 1: Whether Commerce Should Apply Adverse Facts Available (AFA) in Its Analysis of the Export Buyer's Credit Program (EBCP)

Comment 2: Whether Commerce Should Revise Its Preliminary Analysis Regarding the Provision of Phosphorous Oxychloride and Propylene Oxide for Less Than Adequate Remuneration (LTAR)

Comment 3: Whether Commerce Should Continue To Countervail the Provision of Electricity for LTAR

Comment 4: Whether Commerce Should Revise Its Denominators for Anhui RunYue

Comment 5: Whether Zhejiang Wansheng Is Controlled by State-Owned Enterprises (SOEs)

Comment 6: Whether to Apply AFA to Zhejiang Wansheng's Pre-AUL Sales Figures and All Its Affiliate's Sales Figures

Comment 7: Whether Commerce Erred in Its Benchmark Calculations for the Three Input LTAR Programs

Comment 8: Whether Commerce Should Apply AFA to Anhui RunYue for Land Use

Comment 9: Whether the Income Tax Deduction for Research and Development Expenses Under the Enterprise Income Tax (EIT) Law Is Specific

Comment 10: Whether To Apply AFA to Anhui RunYue's 2022 Sales Figures

Comment 11: Whether To Correct Certain Errors in Anhui RunYue's Benefit Calculations

VIII. Recommendation

[FR Doc. 2025-07132 Filed 4-24-25; 8:45 am]

BILLING CODE 3510-DS-P